DEPARTMENT OF COMMERCE

International Trade Administrastion

[C-570-921]

Lightweight Thermal Paper from the People's Republic of China: Notice of Postponement of Preliminary Determination in the Countervailing Duty Investigation

AGENCY: Import Administration, International Trade Administration, Department of Commerce.

EFFECTIVE DATE: December 11, 2007.

FOR FURTHER INFORMATION CONTACT: David Neubacher or Scott Holland, AD/CVD Operations, Office 1, Import Administration, International Trade Administration, U.S. Department of Commerce, 14th Street and Constitution Avenue, NW, Washington, DC 20230; telephone: (202) 482-5823 and (202) 482-1279, respectively.

SUPPLEMENTARY INFORMATION:

Background

On October 29, 2007, the Department of Commerce (the Department) initiated the countervailing duty investigation of lightweight thermal paper (LWTP) from the People's Republic of China (PRC). See Notice of Initiation of Countervailing Duty Investigation: Lightweight Thermal Paper from the People's Republic of China, 72 FR 62209 (November 2, 2007). Currently, the preliminary determination is due no later than January 2, 2008.

Postponement of Due Date for Preliminary Determination

On November 20, 2007, Appleton Papers Inc. (petitioner) requested that the Department postpone the preliminary determination of the countervailing duty investigation of LWTP from the PRC. Under section 703(c)(1)(A) of the Tariff Act of 1930, as amended (the Act), the Department may extend the period for reaching a preliminary determination in a countervailing duty investigation until not later than the 130th day after the date on which the administering authority initiates an investigation if the petitioner makes a timely request for an extension of the period within which the determination must be made under subsection (b) (section 703(b) of the Act). Pursuant to section 351.205(e) of the Department's regulations, the petitioners' request for postponement of the preliminary determination was made 25 days or more before the scheduled date of the preliminary determination. Accordingly, we are extending the due date for the preliminary determination by 65 days to no later than March 7, 2008.

This notice is issued and published pursuant to section 703(c)(2) of the Act.

Dated: December 4, 2007.
Stephen J. Claeys,
Acting Assistant Secretary for Import Administration.

[FR Doc. E7-23958 Filed 12-10-07; 8:45 am]

BILLING CODE 3510-DS-S